FEDERAL DEPOSIT INSURANCE CORPORATION

Update to Notice of Financial Institutions for Which the Federal Deposit Insurance Corporation Has Been Appointed Either Receiver, Liquidator, or Manager

AGENCY: Federal Deposit Insurance Corporation.

ACTION: Update listing of financial institutions in liquidation.

SUMMARY: Notice is hereby given that the Federal Deposit Insurance Corporation (Corporation) has been appointed the sole receiver for the following financial institutions effective as of the Date Closed as indicated in the listing. This list (as updated from time to time in the Federal Register) may be relied upon as “of record” notice that the Corporation has been appointed receiver for purposes of the statement of policy published in the July 2, 1992 issue of the Federal Register (57 FR 29491). For further information concerning the identification of any institutions which have been placed in liquidation, please visit the Corporation Web site at http://www.fdic.gov/bank/individual/failed/banklist.html or contact the Manager of Receivership Oversight in the appropriate service center.

Dated: April 19, 2010.
Federal Deposit Insurance Corporation.
Valerie J. Best,
Assistant Executive Secretary.

Institutions in Liquidation
[In alphabetical order]
FDIC Ref. No. | Bank name | City | State | Date closed
10210 | AmericanFirst Bank | Clermont | FL | 4/16/2010
10211 | Butler Bank | Lowell | MA | 4/16/2010
10212 | City Bank | Lynnwood | WA | 4/16/2010
10213 | First Federal Bank of North Florida | Palatka | FL | 4/16/2010
10214 | Innovative Bank | Oakland | CA | 4/16/2010
10215 | Lakeside Community Bank | Sterling Heights | MI | 4/16/2010
10216 | Riverside National Bank of Florida | Fort Pierce | FL | 4/16/2010
10217 | Tamalpais Bank | San Rafael | CA | 4/16/2010

[FR Doc. 2010-9395 Filed 4-22-10; 8:45 am]

BILLING CODE 6714-01-P